ENVIRONMENTAL PROTECTION AGENCY

[Regional Docket Nos. II-2000-01, 02, 03; FRL-7148-6]

Clean Air Act Operating Permit Program; Petitions for Objection to State Operating Permits for the Albert Einstein College of Medicine at Yeshiva University; Action Packaging Corporation; and Kings Plaza Total Energy Plant

AGENCY: Environmental Protection Agency (EPA).

ACTION: Notice of final orders on petitions to object to three State operating permits.

SUMMARY: This document announces that the EPA Administrator has responded to several citizen petitions asking EPA to object to operating permits issued to three facilities by the New York State Department of Environmental Conservation (NYSDEC). Specifically, the Administrator has denied a petition submitted by the New York Public Interest Research Group (NYPIRG) to object to the State operating permit issued to the Albert Einstein College of Medicine at Yeshiva University (Yeshiva), in Bronx, NY. The Administrator has partially granted and partially denied a petition submitted by NYPIRG to object to the State operating permit issued to Action Packaging Corporation (Action Packaging), in Brooklyn, NY. The Administrator has also partially granted and partially denied a petition submitted by NYPIRG to object to the State operating permit issued to Kings Plaza Total Energy Plant (Kings Plaza), in Brooklyn, NY.

Pursuant to section 505(b)(2) of the Clean Air Act (Act), petitioners may seek judicial review of those portions of the petitions which EPA denied in the United States Court of Appeals for the appropriate circuit. Any petition for review shall be filed within 60 days from the date this notice appears in the Federal Register, pursuant to section 307 of the Act.

ADDRESSES: You may review copies of the final orders, the petitions, and other supporting information at the EPA, Region 2, 290 Broadway, New York, New York 10007-1866. If you wish to examine these documents, you should make an appointment at least 24 hours before visiting day. Each of the final orders is also available electronically at: http://www.epa.gov/region07/programs/artd/air/title5/petitiondb/petitiondb2000.htm.

FOR FURTHER INFORMATION CONTACT: Steven Riva, Chief, Permitting Section, Air Programs Branch, Division of Environmental Planning and Protection, EPA, Region 2, 290 Broadway, 25th Floor, New York, New York 10007-1866, telephone (212) 637-4074.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

I. Yeshiva

On March 15, 2000, the EPA received a petition from NYPIRG, requesting that EPA object to the issuance of the title V operating permit to Yeshiva. The petition raises issues regarding the permit application, the permit issuance process, and the permit itself. NYPIRG asserts that (1) NYSDEC violated the public participation requirements of 40 CFR 70.7(h) by inappropriately denying NYPIRG's request for a public hearing; (2) the permit is based on an incomplete permit application in violation of 40 CFR 70.5(c); (3) the permit entirely lacks a statement of basis as required by 40 CFR 70.7(a)(5); (4) the permit repeatedly violates the 40 CFR 70.6(a)(3)(iii)(A) requirement that the permittee submit reports of any required monitoring at least every six months; (5) the permit distorts the annual compliance certification requirement of CAA section 114(a)(3) and 40 CFR 70.6(c)(5); (6) the permit does not assure compliance with all applicable requirements as mandated by 40 CFR 70.1(b) and 70.6(a)(1) because it illegally sanctions the systematic violations of applicable requirements during startup/shutdown, malfunction, maintenance, and upset conditions; (7) the permit does not require prompt reporting of all deviations from permit requirements as mandated by 40 CFR 70.6(a)(3)(iii)(B); and (8) the permit does not assure compliance with all applicable requirements as mandated by 40 CFR 70.1(b) and 70.6(a)(1) because many individual permit conditions lack adequate periodic monitoring and are not practically enforceable.

NYPIRG raises each of these issues in the petitions on Action Packaging and Kings Plaza, as well. In each of these petitions, the eighth issue is subdivided into several detailed points, some which are permit-specific and some which are shared among the other permits.

On January 16, 2002, the Administrator issued an order denying the petition on Yeshiva. The order explains the reasons behind EPA's conclusion that NYPIRG has failed to demonstrate that Yeshiva's permit does not assure compliance with the Act on the grounds raised.

II. Action Packaging

On April 7, 2000, the EPA received a petition from NYPIRG, requesting that EPA object to the issuance of the title V operating permit to Action Packaging, on the grounds listed above. On January 16, 2002, the Administrator issued an order partially granting and partially denying the petition. The order explains the reasons behind EPA's conclusion that the NYSDEC must reopen the permit to require adequate monitoring of the exhaust gas temperature from the facility's incinerator, and to properly address the applicable requirements of the Maximum Achievable Control Technology standard regulating air toxics from this industry. The order also explains the reasons for denying NYPIRG's remaining claims.

III. Kings Plaza

On May 5, 2000, the EPA received a petition from NYPIRG, requesting that EPA object to the issuance of the title V operating permit to Kings Plaza on the grounds listed above. On January 16, 2002, the Administrator issued an order partially granting and partially denying the petition. The order explains the reasons behind EPA's conclusion that the NYSDEC must reopen the permit to properly reference the facility's plan for complying with the Reasonably Available Control Technology requirements for nitrogen oxides (NOX), and resolve discrepancies in the monitoring for NOX. The order also explains the reasons for denying NYPIRG's remaining claims.

Dated: February 11, 2002.
Jane M. Kenny,
Regional Administrator, Region 2.

[FR Doc. 02-4258 Filed 2-20-02; 8:45 am]

BILLING CODE 6560-50-P